DEPARTMENT OF THE TREASURY

Office of the General Counsel; Appointment of Members of the Legal Division to the Performance Review Board, Internal Revenue Service

Under the authority granted to me as Chief Counsel of the Internal Revenue Service by the General Counsel of the Department of the Treasury by General Counsel Order No. 21 (Rev. 4), pursuant to the Civil Service Reform Act, I have appointed the following persons to the Legal Division Performance Review Board, Internal Revenue Service Panel:

1. Chairperson, Harry J. Hicks, International Tax Counsel (Department of the Treasury).

2. Kevin Brown, Commissioner, Small Business/Self-Employed (Internal Revenue Service).

3. Michael Desmond, Deputy, Tax Legislative Counsel (Department of the Treasury).

This publication is required by 5 U.S.C. 4314(c)(4).

Dated: September 20, 2006.
Donald L. Korb,
Chief Counsel, Internal Revenue Service.

[FR Doc. 06-8324 Filed 9-27-06; 8:45 am]

BILLING CODE 4830-01-M